DEPARTMENT OF TRANSPORTATION

Federal Aviation Administration

14 CFR Part 39

[Docket No. FAA-2019-0016; Product Identifier 2018-NM-168-AD]

RIN 2120-AA64

Airworthiness Directives; Airbus SAS Airplanes

AGENCY: Federal Aviation Administration (FAA), DOT.

ACTION: Supplemental notice of proposed rulemaking (SNPRM); reopening of comment period.

SUMMARY: The FAA is revising an earlier proposal for all Airbus SAS Model A350-941 and -1041 airplanes. This action revises the notice of proposed rulemaking (NPRM) by including additional part numbers that are affected by the unsafe condition. The FAA is proposing this airworthiness directive (AD) to address the unsafe condition on these products. Since these actions would impose an additional burden over those in the NPRM, the FAA is reopening the comment period to allow the public the chance to comment on these changes.

DATES: The comment period for the NPRM published in the Federal Register on February 22, 2019 (84 FR 5611), is reopened.

The FAA must receive comments on this SNPRM by December 23, 2019.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For the material identified in this SNPRM that will be incorporated by reference (IBR), contact the European Union Aviation Safety Agency (EASA), Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0016.

Examining the AD Docket

You may examine the AD docket on the internet at https://www.regulations.gov by searching for and locating Docket No. FAA-2019-0016; or in person at Docket Operations between 9 a.m. and 5 p.m., Monday through Friday, except Federal holidays. The AD docket contains this SNPRM, the regulatory evaluation, any comments received, and other information. The street address for Docket Operations is listed above. Comments will be available in the AD docket shortly after receipt.

FOR FURTHER INFORMATION CONTACT: Kathleen Arrigotti, Aerospace Engineer, International Section, Transport Standards Branch, FAA, 2200 South 216th St., Des Moines, WA 98198; telephone and fax 206-231-3218.

SUPPLEMENTARY INFORMATION:

Comments Invited

The FAA invites you to send any written relevant data, views, or arguments about this proposal. Send your comments to an address listed under the ADDRESSES section. Include “Docket No. FAA-2019-0016; Product Identifier 2018-NM-168-AD” at the beginning of your comments. The FAA specifically invites comments on the overall regulatory, economic, environmental, and energy aspects of this SNPRM. The FAA will consider all comments received by the closing date and may amend this SNPRM based on those comments.

The FAA will post all comments received, without change, to http://www.regulations.gov, including any personal information you provide. The FAA will also post a report summarizing each substantive verbal contact the agency receives about this SNPRM.

Discussion

The FAA issued an NPRM to amend 14 CFR part 39 by adding an AD that would apply to all Airbus SAS Model A350-941 and -1041 airplanes. The NPRM published in the Federal Register on February 22, 2019 (84 FR 5611). The NPRM was prompted by reports of loss of retention of the regulator inlet filter retainer on certain crew oxygen cylinder assemblies. The NPRM proposed to require an operational check of the crew oxygen cylinder assembly, replacement of an affected assembly, and eventual replacement of all affected assemblies with redesigned serviceable assemblies.

Actions Since the NPRM Was Issued

Since the FAA issued the NPRM, the agency has determined that loose regulator inlet filter retainers also exist on redesigned oxygen cylinders having part number (P/N) 4441227-058-001. In the NPRM, P/N 4441227-058-001 was specified as the replacement part to be installed after an affected part was removed. This SNPRM expands the scope of the NPRM by including oxygen cylinders having P/N 4441227-058-001 as affected parts that need to be inspected and, depending on findings, replaced.

The EASA, which is the Technical Agent for the Member States of the European Union, has issued EASA AD 2019-0168, dated July 16, 2019 (“EASA AD 2019-0168”) (referred to after this as the Mandatory Continuing Airworthiness Information, or “the MCAI”), to correct an unsafe condition for all Airbus SAS Model A350-941 and -1041 airplanes. The FAA is issuing this AD to address loss of retention of the regulator inlet filter retainer on certain crew oxygen cylinder assemblies. This condition could lead to particle ingestion into the regulator during ground handling, possibly resulting in ignition/fire during system ground operational testing following crew oxygen cylinder (re)installation on an airplane. See the MCAI for additional background information.

Related IBR Material Under 1 CFR Part 51

EASA AD 2019-0168 describes procedures for an inspection of the crew oxygen cylinder assembly for any discrepancy (a loose part making a sound during agitation of the cylinder) and replacement of an affected crew oxygen cylinder assembly with a serviceable part.

This service information is reasonably available because the interested parties have access to it through their normal course of business or by the means identified in the ADDRESSES section.

Comments

The FAA gave the public the opportunity to participate in developing this proposed AD. The FAA considered the comments received. The Air Line Pilots Association, International (ALPA) expressed support for the NPRM.

Request To Clarify Mandatory Actions

Delta Air Lines (DAL) requested clarification regarding which actions described in Airbus All Operators Transmission (AOT) A35P010-17, Revision 00, dated December 20, 2017 (“Airbus AOT A35P010-17, Revision 00”), and the associated vendor service bulletins, are required for compliance with the requirements of the proposed AD (in the NPRM). The commenter stated that Airbus AOT A35P010-17, Revision 00, is not written in the traditional service bulletin format, and suggested that the intent of the proposed AD (in the NPRM) is for operators to comply with only section 4.2.2, Inspection Requirements, of Airbus AOT A35P010-17, Revision 00. The commenter reasoned that all other aspects and parts of Airbus AOT A35P010-17, Revision 00, are unrelated to the unsafe condition and are for operator reference and logistics information. Specifically, the commenter requested that paragraph (h) of the proposed AD (in the NPRM) be revised to include a paragraph (h)(3) which would state that “Where the EASA AD states accomplishment of a task `in accordance with the instructions of the AOT”, an operator may use alternative approved procedures. The AOT and Vendor SB can be referred to for accepted procedures to comply with the mandated tasks.” The commenter advised that the proposed AD (in the NPRM) would mandate procedures that are not related to airworthiness, such as returning affected parts to Rockwell Collins and reporting the inspection results to Airbus Customer Service.

The FAA agrees to clarify which actions described in the AOT would be required by this proposed AD. Since the NPRM was published, EASA has issued AD 2019-0168, and the FAA has revised this proposed AD to refer to EASA AD 2019-0168. EASA AD 2019-0168 refers to Airbus AOT A35P010-17, Revision 00; and Airbus AOT A35P010-17, Revision 01, dated April 11, 2019 (“AOT A35P010-17, Revision 01”). The FAA has revised paragraph (h) of this proposed AD to include paragraph (h)(3) to state that the language in paragraph (2) of EASA AD 2019-0168 that states “the instructions of the AOT” should be replaced with “paragraph 4.2.2., Inspection Requirements, of the AOT.”

In regard to the reporting requirement, paragraph (i) of the proposed AD (in the NPRM) states that although EASA AD 2018-0245R1 specifies to submit certain information to the manufacturer that action would not be required. Because EASA AD 2018-0245R1 was superseded by EASA AD 2019-0168, the FAA has revised paragraph (i) of this proposed AD to refer to EASA AD 2019-0168. In addition, the FAA has added paragraph (j) to this proposed AD to clarify that returning affected parts to the manufacturer is not required, and redesignated the subsequent paragraphs accordingly.

The FAA does not agree with the commenter's request to revise paragraph (h) of this proposed AD to allow operators to use alternative approved procedures to comply with the proposed requirements. Any request for an Alternative Method of Compliance (AMOC) must be done in accordance with paragraph (k)(1) of this proposed AD. The FAA has not revised this proposed AD in regard to this issue.

Request To Refer to Vendor Service Bulletins

DAL requested that the NPRM be revised to include a reference to Rockwell Collins (formerly B/E Aerospace) Vendor Service Bulletin (VSB) 4441227-35-003, and to allow operators to use the applicable Rockwell Collins VSB for inspection procedures. The commenter noted that there is an error in Rockwell Collins VSB 4441227-35-003, because it refers to a modification Rockwell Collins VSB for instructions on how to replace an affected crew oxygen cylinder assembly, but that service information does not contain replacement instructions.

The FAA does not find it necessary to reference VSB 4441227-35-003 in this proposed AD because it is already referenced in Airbus AOT A35P010-17, Revision 01, for the required inspection. The FAA notes that EASA AD 2019-0168 refers to Airbus AOT A35P010-17, Revision 01, as the primary source of service information for operators to use for procedures to address the unsafe condition. AOT A35P010-17, Revision 01, includes updated inspection procedures that are acceptable for compliance.

The FAA acknowledges the commenter's observation that there is an error in certain revisions of Rockwell Collins VSB 4441227-35-003 regarding certain other Rockwell Collins VSB numbers. Airbus AOT A35P010-17, Revision 01, references Maintenance Planning (MP) Task A350-A-35-11-56-00001-520A-A for removal of affected crew oxygen cylinder assemblies and MP Task A350-A-35-11-56-00001-720A-A for installation of crew oxygen cylinder assemblies. Therefore, the Rockwell Collins VSBs are not required to accomplish actions involving removal and installation of crew oxygen cylinder assemblies. If needed, operators may request an AMOC for the required actions in this proposed AD, using the procedures specified in paragraph (k)(1) of this proposed AD. The FAA has not revised this proposed AD in regard to this issue.

Request To Allow Any Revision Level of Service Information

DAL stated that Airbus AOT A35P010-17, Revision 00, did not refer to specific revision levels for the Rockwell Collins VSBs. Therefore, it assumed that any approved version was acceptable for operators to use for inspection procedures.

The FAA infers that the commenter is requesting clarification regarding revision levels of the Rockwell Collins VSBs for inspection procedures. Since AOT A35P010-17, Revision 01, does not specify a revision level for the Rockwell Collins VSBs, any revision is acceptable for compliance with the applicable requirements of this proposed AD. The FAA has not revised this proposed AD in regard to this issue.

Request for Clarification of Terminology

DAL requested that the proposed AD (in the NPRM) be revised to state that operators should do an inspection for loose retainer assemblies in the affected crew oxygen cylinder assemblies instead of an operational check. The commenter noted that “operational check” is used in EASA AD 2018-0245R1 (which is the MCAI referred to in the NPRM) but “inspection” is used in Airbus AOT A35P010-17, Revision 00, and the associated Rockwell Collins VSBs.

The FAA agrees to clarify. The referenced terminology has been revised in EASA AD 2019-0168, which refers to an “inspection” instead of an “operational check.” This terminology is now consistent among EASA AD 2019-0168, this proposed AD, Airbus AOT A35P010-17, Revision 01, and the associated Rockwell Collins VSBs. The FAA has revised the “Related Service Information under 1 CFR part 51” section of this proposed AD to clarify this information.

Request for Clarification of Airplane Groups

DAL requested that the proposed AD (in the NPRM) be revised to include instructions to operators stating that by removing an affected crew oxygen cylinder assembly an airplane can move from Group 1 to Group 2 for the purposes of compliance with the proposed AD (in the NPRM). The commenter stated that EASA AD 2018-0245R1 (referred to as the MCAI in the NPRM) identified a Group 1 airplane as an airplane that has an affected crew oxygen cylinder assembly installed and that by removing an affected crew oxygen cylinder assembly the airplane would then be identified as a Group 2 airplane. The commenter stated that the only compliance method would be to ensure an affected crew oxygen cylinder assembly is not reinstalled on that airplane so it can remain a Group 2 airplane. The commenter stated that this could create confusion for operators regarding which proposed requirements specified in the proposed AD (in the NPRM) would apply to a given airplane. The commenter also stated that operators could become confused regarding what is required to maintain compliance with the requirements in the proposed AD (in the NPRM) and how to report compliance.

The FAA agrees to clarify. As stated previously, the FAA has revised this proposed AD to refer to EASA AD 2019-0168, which addresses this issue by removing the definitions of the airplane groups and allowing the installation of an affected crew oxygen cylinder assembly on any airplane, provided it is a serviceable part as defined in EASA AD 2019-0168. The FAA has not revised this proposed AD in regard to this issue.

Proposed Requirements of This SNPRM

This proposed AD would require accomplishing the actions specified in EASA AD 2019-0168 described previously, as incorporated by reference, except for any differences identified as exceptions in the regulatory text of this AD.

Certain changes described above expand the scope of the NPRM. As a result, the FAA has determined that it is necessary to reopen the comment period to provide additional opportunity for the public to comment on this SNPRM.

Explanation of Required Compliance Information

In the FAA's ongoing efforts to improve the efficiency of the AD process, the FAA worked with Airbus and EASA to develop a process to use certain EASA ADs as the primary source of information for compliance with requirements for corresponding FAA ADs. As a result, EASA AD 2019-0168 will be incorporated by reference in the FAA final rule. This proposed AD would, therefore, require compliance with the provisions specified in EASA AD 2019-0168, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2019-0168 that is required for compliance with EASA AD 2019-0168 will be available on the internet at https://www.regulations.gov by searching for and locating Docket No. FAA-2019-0016 after the FAA final rule is published.

Costs of Compliance

The FAA estimates that this proposed AD affects 13 airplanes of U.S. registry. The FAA estimates the following costs to comply with this proposed AD:

Estimated Costs for Required Actions
Labor cost | Parts cost | Cost per product | Cost on U.S. operators
172 work-hours × $85 per hour = $14,620 | $6,940 | $21,560 | $280,280

The FAA has received no definitive data that would enable the agency to provide cost estimates for the on-condition replacements specified in this proposed AD.

According to the manufacturer, some or all of the costs of this proposed AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA has determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus SAS: Docket No. FAA-2019-0016; Product Identifier 2018-NM-168-AD.

(a) Comments Due Date

The FAA must receive comments by December 23, 2019.

(b) Affected ADs

None.

(c) Applicability

This AD applies to all Airbus SAS Model A350-941 and -1041 airplanes, certificated in any category.

(d) Subject

Air Transport Association (ATA) of America Code 35, Oxygen.

(e) Reason

This AD was prompted by reports of loss of retention of the regulator inlet filter retainer on certain crew oxygen cylinder assemblies. The FAA is issuing this AD to address loss of retention of the regulator inlet filter retainer on certain crew oxygen cylinder assemblies. This condition could lead to particle ingestion into the regulator during ground handling, possibly resulting in ignition/fire during system ground operational testing following crew oxygen cylinder (re)installation on an airplane.

(f) Compliance

Comply with this AD within the compliance times specified, unless already done.

(g) Requirements

Except as specified in paragraph (h) of this AD: Comply with all required actions and compliance times specified in, and in accordance with, European Union Aviation Safety Agency (EASA) AD 2019-0168, dated July 16, 2019 (“EASA AD 2019-0168”).

(h) Exceptions to EASA AD 2019-0168

(1) Where EASA AD 2019-0168 refers to its effective date this AD requires using the effective date of this AD.

(2) The “Remarks” section of EASA AD 2019-0168 does not apply to this AD.

(3) Replace the language in paragraph (2) of EASA AD 2019-0168 that states “the instructions of the AOT” with “paragraph 4.2.2., Inspection Requirements, of the AOT.”

(i) No Reporting Required

Although the service information referenced in EASA AD 2019-0168 specifies to submit certain information to the manufacturer, this AD does not include that requirement.

(j) No Return of Parts Required

Although the service information referenced in EASA AD 2019-0168 specifies to return affected parts to the manufacturer, this AD does not include that requirement.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0168 that contains RC procedures and tests: Except as required by paragraph (k)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) For information about EASA AD 2019-0168, contact the EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2019-0168 may be found in the AD docket on the internet at https://www.regulations.gov by searching for and locating Docket No. FAA-2019-0016.

(2) For more information about this AD, contact Kathleen Arrigotti, Aerospace Engineer, International Section, Transport Standards Branch, FAA, 2200 South 216th St., Des Moines, WA 98198; telephone and fax 206-231-3218.

Issued in Des Moines, Washington, on September 27, 2019.
Michael Kaszycki,
Acting Director, System Oversight Division, Aircraft Certification Service.

[FR Doc. 2019-21880 Filed 11-6-19; 8:45 am]

BILLING CODE 4910-13-P